DEPARTMENT OF AGRICULTURE

Forest Service

Newspapers Used for Publication of Legal Notices in the Southwestern Region: Arizona, New Mexico, and Parts of Oklahoma and Texas

AGENCY: Forest Service, USDA.

ACTION: Notice.

SUMMARY: This notice lists the newspapers that will be used by all Ranger Districts, Grasslands, Forests, and the Regional Office of the Southwestern Region to publish legal notices. The intended effect of this action is to inform interested members of the public which newspapers the Forest Service will use to publish notices of proposed actions, notices of decision, and notices of opportunity to file an objection. This will provide the public with constructive notice of Forest Service proposals and decisions, provide information on the procedures to comment or object, and establish the date that the Forest Service will use to determine if comments or objections were timely.

DATES: Publication of legal notices in the listed newspapers will begin on the date of this publication and continue until further notice.

ADDRESSES: Roxanne Turley, Regional Administrative Review Coordinator, Forest Service, Southwestern Region; 333 Broadway SE, Albuquerque, NM 87102-3498.

FOR FURTHER INFORMATION CONTACT: Roxanne Turley, Regional Administrative Review Coordinator; (505) 842-3178 or roxanne.turley@usda.gov.

SUPPLEMENTARY INFORMATION: The administrative procedures at 36 CFR parts 218 and 219 require the Forest Service to publish notices in a newspaper of general circulation. The content of the notices is specified in 36 CFR parts 218 and 219. In general, the notices will identify: The decision or project by title or subject matter; the name and title of the official making the decision; how to obtain additional information; and where and how to file comments or objections. The date the notice is published will be used to establish the official date for the beginning of the comment or objection period. Where more than one newspaper is listed for any unit, the first newspaper listed is the primary newspaper of record and which publication date shall be used for calculating the time period to file comment or an objection.

Southwestern Regional Office

Regional Forester

—Notices of Availability for Comment and Decisions and Objections affecting National Forest System Lands in the State of New Mexico for any projects of Region-wide impact, or for any projects affecting more than one National Forest or National Grassland in New Mexico:—“Albuquerque Journal”, Albuquerque, New Mexico.

—Regional Forester Notices of Availability for Comment and Decisions and Objections affecting National Forest System lands in the State of Arizona for any projects of Region-wide impact, or for any projects affecting more than one National Forest in Arizona: —“The Arizona Republic”, Phoenix, Arizona.

—Regional Forester Notices of Availability for Comment and Decisions and Objections affecting National Grasslands in New Mexico, Oklahoma, and Texas are listed by Grassland and location as follows:

Kiowa National Grassland —“Union County Leader”, Clayton New Mexico

Rita Blanca National Grassland in Cimarron County, Oklahoma—“Boise City News”, Boise City, Oklahoma

Rita Blanca National Grassland in Dallam County, Texas—“The Dalhart Texan”, Dalhart, Texas

Black Kettle National Grassland in Roger Mills County, Oklahoma—“Cheyenne Star”, Cheyenne, Oklahoma

Black Kettle National Grassland in Hemphill County, Texas—“The Canadian Record”, Canadian, Texas

McClellan Creek National Grassland in Gray County, Texas—“The Pampa News”, Pampa, Texas

—Regional Forester Notices of Availability for Comment and Decisions and Objections affecting only one National Forest or National Grassland unit will appear in the newspaper of record elected by each National Forest or National Grassland, as listed below.

Arizona National Forests

Apache-Sitgreaves National Forests

Notices for Availability for Comments, Decisions and Objections by Forest Supervisor, Alpine Ranger District, Black Mesa Ranger District, Lakeside Ranger District, and Springerville Ranger District are published in: —“The White Mountain Independent”, Apache County, Arizona.

Clifton Ranger District Notices are published in:—“Copper Era”, Clifton, Arizona.

Coconino National Forest

Notices for Availability for Comments, Decisions and Objections by Forest Supervisor, Mogollon Rim Ranger District, and Flagstaff Ranger District are published in: —“Arizona Daily Sun”, Flagstaff, Arizona.

Red Rock Ranger District Notices are published in: —“Red Rock News”, Sedona, Arizona.

Coronado National Forest

Notices for Availability for Comments, Decisions and Objections by the Forest Supervisor and Santa Catalina Ranger District are published in:—“The Arizona Daily Star”, Tucson, Arizona.

Douglas Ranger District Notices for projects occurring within the Chiricahua and Dragoon Mountain Ranges (the Chiricahua and Dragoon Ecosystem Management Areas) are published in:—“Herald/Review”, Sierra Vista, Arizona; notices for projects occurring within the Peloncillo Mountain Range (the Peloncillo Ecosystem Management Area) are published in:—“Hidalgo County Herald”, Lordsburg, New Mexico.

Nogales Ranger District Notices are published in: —“Nogales International”, Nogales, Arizona.

Sierra Vista Ranger District Notices are published in:—“Herald/Review”, Sierra Vista, Arizona.

Safford Ranger District Notices are published in:—“Eastern Arizona Courier”, Safford, Arizona.

Kaibab National Forest

Notices for Availability for Comments, Decisions and Objections by Forest Supervisor, North Kaibab Ranger District, Tusayan Ranger District, and Williams Ranger District Notices are published in: —“Arizona Daily Sun”, Flagstaff, Arizona.

Prescott National Forest

Notices for Availability for Comments, Decisions and Objections by Forest Supervisor, Bradshaw Ranger District, and Chino Valley Ranger District are published in:—“Daily Courier”, Prescott, Arizona.

Verde Ranger District Notices are published in: “Verde Independent”, Cottonwood, Arizona.

Tonto National Forest

Notices for Availability for Comments, Decisions, and Objections by Forest Supervisor, Cave Creek Ranger District, and Mesa Ranger District are published in:—“Arizona Capitol Times”, in Phoenix, Arizona.

Globe Ranger District Notices are published in:—“Arizona Silver Belt”, Globe, Arizona.

Payson Ranger District, Pleasant Valley Ranger District and Tonto Basin Ranger District Notices are published in:—“Payson Roundup”, Payson, Arizona.

New Mexico National Forests

Carson National Forest

Notices for Availability for Comments, Decisions and Objections by Forest Supervisor, Camino Real Ranger District, Tres Piedras Ranger District, and Questa Ranger District are published in:—“The Taos News”, Taos, New Mexico.

Canjilon Ranger District and El Rito Ranger District Notices are published in:—“Rio Grande Sun”, Espanola, New Mexico.

Jicarilla Ranger District Notices are published in:—“Farmington Daily Times”, Farmington, New Mexico.

Cibola National Forest and National Grasslands

Notices for Availability for Comments, Decisions and Objections by Forest Supervisor affecting lands in New Mexico, except the National Grasslands are published in:—“Albuquerque Journal”, Albuquerque, New Mexico.

Forest Supervisor Notices affecting National Grasslands in New Mexico, Oklahoma and Texas are published by grassland and location as follows:

—Kiowa National Grassland in Colfax, Harding, Mora and Union Counties, New Mexico published in:—“Union County Leader”, Clayton, New Mexico

—Rita Blanca National Grassland in Cimarron County, Oklahoma published in:—“Boise City News”, Boise City, Oklahoma

—Rita Blanca National Grassland in Dallam County, Texas published in: —“The Dalhart Texan”, Dalhart, Texas

—Black Kettle National Grassland, in Roger Mills County, Oklahoma published in:—“Cheyenne Star”, Cheyenne, Oklahoma

—Black Kettle National Grassland, in Hemphill County, Texas, published in:—“The Canadian Record”, Canadian, Texas

—McClellan Creek National Grassland published in:—“The Pampa News”, Pampa, Texas.

—Kiowa National Grassland published in: —“Union County Leader”, Clayton, New Mexico.

Mt. Taylor Ranger District notices are published in:—“Cibola County Beacon”, Grants, New Mexico.

Magdalena Ranger District notices are published in:—“El Defensor-Chieftain”, Socorro, New Mexico.

Mountainair Ranger District notices are published in:—“The Independent”, Edgewood, New Mexico.

Sandia Ranger District notices are published in:—“Albuquerque Journal”, Albuquerque, New Mexico.

Gila National Forest

Notices for Availability for Comments, Decisions and Objections by Forest Supervisor, Quemado Ranger District, Reserve Ranger District, Glenwood Ranger District, Silver City Ranger District and Wilderness Ranger District are published in:—“Silver City Daily Press”, Silver City, New Mexico.

Black Range Ranger District notices are published in:—“Sierra County Sentinel”, Truth or Consequences, New Mexico.

Lincoln National Forest

Notices for Availability for Comments, Decisions and Objections by Forest Supervisor and the Sacramento Ranger District are published in:—“Alamogordo Daily News”, Alamogordo, New Mexico.

Guadalupe Ranger District Notices are published in:—“Carlsbad Current Argus”, Carlsbad, New Mexico.

Smokey Bear Ranger District Notices are published in:—“Ruidoso News”, Ruidoso, New Mexico.

Santa Fe National Forest

Notices for Availability for Comments, Decisions and Objections by Forest Supervisor, Coyote Ranger District, Cuba Ranger District, Espanola Ranger District, Jemez Ranger District and Pecos-Las Vegas Ranger District are published in:—“Albuquerque Journal”, Albuquerque, New Mexico.

Dated: May 26, 2021.
Barnie Gyant,
Associate Deputy Chief, NFS.

[FR Doc. 2021-11558 Filed 6-1-21; 8:45 am]

BILLING CODE 3411-15-P